DEPARTMENT OF HEALTH AND HUMAN SERVICES

National Institutes of Health

National Institute on Drug Abuse; Amended Notice of Meeting

Notice is hereby given of a change in the meeting of the National Institute on Drug Abuse Special Emphasis Panel, February 17, 2017, 12:00 p.m. to February 17, 2017, 05:00 p.m., National Institutes of Health, Neuroscience Center, 6001 Executive Boulevard, Rockville, MD 20852 which was published in the Federal Register on January 25, 2017, 82 16 FR 2017-01737.

This meeting was amended to change the date and time and will now be held on March 29, 2017, from 10:30 a.m. to 12:30 p.m. The meeting is closed to the public.

Dated: February 15, 2017.
Natasha M. Copeland,
Program Analyst, Office of Federal Advisory Committee Policy.

[FR Doc. 2017-03389 Filed 2-21-17; 8:45 am]

BILLING CODE 4140-01-P